FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Web site (http://www.fmc.gov) or contacting the Office of Agreements (202) 523-5793 or tradeanalysis@fmc.gov).

Agreement No.: 010050-019.

Title: U.S. Flag Discussion Agreement.

Parties: American President Lines, Ltd.; APL Co. PTE Ltd.; A.P. Moller-Maersk A/S; and Hapag-Lloyd USA, LLC.

Filing Party: David F. Smith, Esq.; Sher & Blackwell LLP; 1850 M Street, NW., Suite 900, Washington, DC 20036.

Synopsis: The amendment deletes Croatia and Macedonia from the geographic scope of the agreement.

Agreement No.: 011435-013.

Title: APL/HLCL Space Charter Agreement.

Parties: American President Lines, Ltd.; APL Co. Pte Ltd.; and Hapag-Lloyd Container Linie GmbH.

Filing Party: Wayne R. Rohde, Esq.; Sher & Blackwell LLP; 1850 M Street, NW., Suite 900, Washington, DC 20036.

Synopsis: The amendment revises the vessel strings deployed under the agreement. It also narrows the geographic scope, revises the duration, and restates the agreement.

Agreement No.: 011960-003.

Title: The New World Alliance Agreement.

Parties: American President Lines, Ltd.; APL Co. Pte, Ltd.; Hyundai Merchant Marine Co., Ltd.; and Mitsui O.S.K. Lines, Ltd. (“MOL”).

Filing Party: Eric C. Jeffrey, Esq.; Counsel for APL; Goodwin Procter LLP; 901 New York Avenue, NW., Washington, DC 20001.

Synopsis: The amendment increases the number of slots that APL charters to CMA CGM under a separate agreement on a string operated between Far East and the United States East Coast via Suez Canal, and authorizes APL to charter space to Hapag-Lloyd under a separate agreement on a string operated in between the Far East and California.

Agreement No.: 012008-003.

Title: The 360 Quality Association Agreement.

Parties: NYKCool AB and Seatrade Group NV.

Filing Party: Wayne R. Rohde, Esq.; Sher & Blackwell LLP; 1850 M Street, NW., Suite 900, Washington, DC 20036.

Synopsis: The amendment would add Green Chartering AS as a party to the agreement.

Agreement No.: 201190.

Title: Marine Terminal Services Agreement between Port of Houston Authority (“PHA”); China Shipping Container Lines Co., Ltd., and China Shipping Container Lines (Hong Kong) Co. Ltd.

Parties: Port of Houston Authority; China Shipping Container Lines Co, Ltd.; and China Shipping Container Lines (Hong Kong) Co. Ltd.

Filing Party: Erik A. Eriksson, Esq.; General Counsel; Port of Houston Authority, PO Box 2562, Houston, TX 77252-2562.

Synopsis: The agreement authorizes PHA to establish discounted rates and preferential berthing rights for China Shipping's vessels calling at the port.

Dated: July 10, 2008.
By order of the Federal Maritime Commission.
Karen V. Gregory,
Assistant Secretary.

[FR Doc. E8-16196 Filed 7-15-08; 8:45 am]

BILLING CODE 6730-01-P